NATIONAL AERONAUTICS AND SPACE ADMINISTRATION

[Notice: (17-065)]

NASA Aerospace Safety Advisory Panel; Meeting

AGENCY: National Aeronautics and Space Administration (NASA).

ACTION: Notice of meeting.

SUMMARY: In accordance with the Federal Advisory Committee Act, as amended, the National Aeronautics and Space Administration announces a forthcoming meeting of the Aerospace Safety Advisory Panel.

DATES: Thursday, October 5, 2017, 10:15 a.m. to 11:30 a.m., Local Time.

ADDRESSES: NASA Johnson Space Center, Room 966, 2101 NASA Parkway, Building 1, Houston, TX 77058.

FOR FURTHER INFORMATION CONTACT: Ms. Evette Whatley, Aerospace Safety Advisory Panel Administrative Officer, NASA Headquarters, Washington, DC 20546, (202) 358-4733, or email at evette.whatley@nasa.gov.

SUPPLEMENTARY INFORMATION: The Aerospace Safety Advisory Panel (ASAP) will hold its Fourth Quarterly Meeting for 2017. This discussion is pursuant to carrying out its statutory duties for which the Panel reviews, identifies, evaluates, and advises on those program activities, systems, procedures, and management activities that can contribute to program risk. Priority is given to those programs that involve the safety of human flight. The agenda will include:

• Updates on the Exploration Systems Development

• Updates on the Commercial Crew Program

• Updates on the International Space Station Program

The meeting will be open to the public up to the seating capacity of the room. Seating will be on a first-come basis. This meeting is also available telephonically. Any interested person may call the USA toll free conference call number (888) 469-0505; pass code 5829034. Attendees will be required to sign a visitor's register and to comply with NASA security requirements, including the presentation of a valid picture ID, before receiving an access badge. U.S. citizens and Permanent Residents (green card holders) desiring to attend the ASAP 2017 Fourth Quarterly Meeting at the NASA Johnson Space Center must provide their full name and company affiliation (if applicable) to Ms. Stephanie Castillo at stephanie.m.castillo@nasa.gov, or by fax 281-483-2200 or telephone 281-483-3341 by September 25, 2017. Foreign Nationals attending the meeting will be required to provide a copy of their passport and visa, in addition to providing the following information by September 21, 2017: Full name; gender; date/place of birth; citizenship; visa information (number, type, expiration date); passport information (number, country, expiration date); employer/affiliation information (name of institution, address, country, telephone); and title/position of attendee. Additional information may be requested. Permanent Residents should provide this information: Green card number and expiration date. Persons with disabilities who require assistance should indicate this. Photographs will only be permitted during the first 10 minutes of the meeting.

At the beginning of the meeting, members of the public may make a verbal presentation to the Panel on the subject of safety in NASA, not to exceed 5-minutes in length. To do so, members of the public must contact Ms. Evette Whatley at evette.whatley@nasa.gov or at (202) 358-4733 at least 48 hours in advance. Any member of the public is permitted to file a written statement with the Panel at the time of the meeting. Verbal presentations and written comments should be limited to the subject of safety in NASA. It is imperative that the meeting be held on this date to accommodate the scheduling priorities of the key participants.

Patricia D. Rausch,
Advisory Committee Management Officer, National Aeronautics and Space Administration.

[FR Doc. 2017-19866 Filed 9-18-17; 8:45 am]

BILLING CODE 7510-13-P